ENVIRONMENTAL PROTECTION AGENCY

[EPA-HQ-OPP-2008-0102; FRL-8369-6]

Exposure Modeling Public Meeting

AGENCY: Environmental Protection Agency (EPA).

ACTION: Notice.

SUMMARY: An Exposure Modeling Public Meeting (EMPM) will be held for one day on July 22, 2008. This notice announces the location and time for the meeting and sets forth the tentative agenda topics.

DATES: The meeting will be held on July 22, 2008 from 9:00 am to 4:00 pm.

To request accommodation of a disability, please contact the person listed under FOR FURTHER INFORMATON CONTACT, preferably at least 10 days prior to the meeting, to give EPA as much time as possible to process your request.

ADDRESSES: The meeting will be held at Environmental Protection Agency, Office of Pesticide Programs (OPP), One Potomac Yard (South Building), 1st Floor South Conference Room, 2777 S. Crystal Drive, Arlington, VA 22202.

FOR FURTHER INFORMATION CONTACT: Michael Barrett, Environmental Fate and Effects Division, Office of Pesticide Programs, Environmental Protection Agency, 1200 Pennsylvania Ave., NW., Washington, DC 20460-0001; telephone number: (703) 305--6391; fax number: (703) 305-6309]; e-mail address: barrett.michael@epa.gov.

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have nay questions regarding the applicability of this action to a particular entity, consult the person listed under FOR FURTHER INFORMATION CONTACT.

B. How Can I Get Copies of this Document and Other Related Information

?

1. Docket. EPA has established a docket for this action under docket ID number EPA-HQ-OPP-2008-0102. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an Exposure Modeling Public Meeting will be held for presentation and discussion of current issues in modeling pesticide fate, transport, and exposure in support of risk assessment in a regulatory context. Meeting dates and abstract requests are announced through the “empmlist” forum on the LYRIS list server at https://lists.epa.gov/read/all_forums/.

III. How Can I Request to Participate in this Meeting?

You may submit a request to participate in this meeting to the person listed under FOR FURTHER INFORMATION CONTACT. Do not submit any information in your request that is considered CBI. Requests to participate in the meeting, identified by docket ID number EPA-HQ-OPP-2008-0102, must be received on or before July 14, 2008.

IV. Tentative Topics for the Meeting

1. General Theme: Terrestrial Modeling

2. Specific Topics:

a. Discussion of PlantEX Model

b. Overview of T-REX and T-HERPES

c. TIM Model (Avian Probabilistic Model)

d. Chloropicrin Manufacturing Task Force Presentation on Chain 2-D Model

e. Riparian Ecosystem Management Model (REMM) and Runoff Study to Validate Model

f. Fumigant Emission Physical Factors and Measures for Mitigating Exposure Incidences

List of Subjects

Environmental protection, Modeling, Monitoring, Pesticides, Pest.

Dated: June 17, 2008.
Arthur Jean Williams,
Acting Director, Environmental Fate and Effects Division, Office of Pesticide Programs.

[FR Doc. E8-14514 Filed 6-26-08; 8:45 am]

BILLING CODE 6560-50-S